DEPARTMENT OF HEALTH AND HUMAN SERVICES

National Institutes of Health

Center for Scientific Review; Amended Notice of Meeting

Notice is hereby given of a change in the meeting of the Nursing and Related Clinical Sciences Study Section, February 8, 2011, 8 a.m. to February 9, 2011, 5 p.m., Renaissance Washington, DC Downtown Hotel, 999 Ninth Street, NW., Washington, DC 20001 which was published in the Federal Register on January 10, 2011, 76 FR 1442-1443.

The meeting will be held at the Renaissance M Street Hotel, 1143 New Hampshire Avenue, NW., Washington, DC 20037. The meeting dates and time remain the same. The meeting is closed to the public.

Dated: January 20, 2011.
Jennifer S. Spaeth,
Director, Office of Federal Advisory Committee Policy.

[FR Doc. 2011-1683 Filed 1-26-11; 8:45 am]

BILLING CODE 4140-01-P